DEPARTMENT OF THE INTERIOR

Bureau of Land Management

[19X.LLID930000.L11700000.DF0000.LXSGPL000000.241A.4500132602]

Notice of Availability of the Final Programmatic Environmental Impact Statement for Fuels Reduction and Rangeland Restoration in the Great Basin; Idaho, Washington, Oregon, California, Nevada and Utah

AGENCY: Bureau of Land Management, Interior.

ACTION: Notice of availability.

SUMMARY: In accordance with the National Environmental Policy Act of 1969, as amended, the Bureau of Land Management (BLM) has prepared a Final Programmatic Environmental Impact Statement (EIS) for Fuels Reduction and Rangeland Restoration in the Great Basin and by this notice is announcing its availability.

DATES: The BLM will not issue a final decision on the proposal for a minimum of 30 days after the date that the Environmental Protection Agency publishes its Notice of Availability (NOA) in the Federal Register.

ADDRESSES: Copies of the Final Programmatic EIS for Fuels Reduction and Rangeland Restoration in the Great Basin are available for public inspection during regular business hours at 1387 South Vinnell Way, Boise ID 83709. Interested persons may also review the Final Programmatic EIS online at: https://go.usa.gov/x79bp. Additional copies can be made available at the Oregon/Washington, California, Nevada and Utah BLM State Offices upon request.

FOR FURTHER INFORMATION CONTACT: Shannon Bassista, telephone 208-373-3845; address BLM Idaho State Office, 1387 South Vinnell Way, Boise ID 83709; email sbassista@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Intact sagebrush communities are disappearing within the Great Basin due to the interactions of increased wildfires, the spread of invasive annual grasses, and the encroachement of pinyon-juniper. Fuels reduction treatments and rangeland restoration treatments are needed to increase intact sagebrush communities and improve their ability to resist annual grass invasion and recover from disturbance such as wildfire. Functioning and viable sagebrush communities provide multiple-use opportunities for all user groups as well as habitat for sagebrush-dependent species.

The Programmatic EIS analzyes the environmental effects of fuels reduction projects, invasive species treatments, and vegetation restoration work within sagebrush communities. The preferred alternative (Alternative B) analyzes a full suite of manual, chemical and mechanical treatments, including prescribed fire, seeding, and targeted grazing, in order to restore degraded vegetative communities within the 38.5 million-acre sagebrush analysis area. The preferred alternative provides a framework under which BLM offices may work to develop site-specific fuels reduction and rangeland restoration treatments within the project area.

The NOA for the Draft Programmatic EIS published on April 3, 2020, initiating a 60-day public comment period. The BLM hosted a virtual public meeting website to share information about the proposed project and alternatives and to answer questions. The public was able to comment online through ePlanning, through the virtual public meeting website, via a project email address, or by postal mail. The BLM received 1,270 comment form letters and 144 unique comment letters. Comments on the Draft Programmatic EIS received from the public and internal BLM review were considered and incorporated as appropriate into the Final Programmatic EIS. Public comments resulted in the addition of clarifying text, but did not significantly change the alternatives or analysis.

(Authority: 40 CFR 1506.6, 40 CFR 1506.11 (2020))

John F. Ruhs,
Idaho State Director, Bureau of Land Management.

[FR Doc. 2020-26146 Filed 11-25-20; 8:45 am]

BILLING CODE 4310-GG-P